DEPARTMENT OF ENERGY

Federal Energy Regulatory Commission

[Docket No. IC09-587-001]

Commission Information Collection Activities (FERC-587); Comment Request; Submitted for OMB Review

April 2, 2009.

AGENCY: Federal Energy Regulatory Commission, Energy.

ACTION: Notice.

SUMMARY: In compliance with the requirements of section 3507 of the Paperwork Reduction Act of 1995, 44 U.S.C. 3507, the Federal Energy Regulatory Commission (Commission) has submitted the information collection described below to the Office of Management and Budget (OMB) for review of the information collection requirements. Any interested person may file comments directly with OMB and should address a copy of those comments to the Commission as explained below. The Commission received no comments in response to the Federal Register notice (74 FR 2573, 1/15/2009) and has made this notation in its submission to OMB.

DATES: Comments on the collection of information are due by May 11, 2009.

ADDRESSES: Address comments on the collection of information to the Office of Management and Budget, Office of Information and Regulatory Affairs, Attention: Federal Energy Regulatory Commission Desk Officer. Comments to OMB should be filed electronically, c/o oira__submission@omb.eop.gov and include OMB Control Number 1902-0145 as a point of reference. The Desk Officer may be reached by telephone at 202-395-4638.

A copy of the comments should also be sent to the Federal Energy Regulatory Commission and should refer to Docket No. IC09-587-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-587-001.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: The FERC uses the FERC Form No. 587 (“Land Description (Public Land States/Non-Public Land States (Rectangular or Non-Rectangular Survey System Lands in Public Land States))”; OMB Control Number 1902-0145) to collect information required by the statutory provisions of Section 24 of the Federal Power Act (FPA), (16 U.S.C.818).

Applicants proposing hydropower projects, or changes to existing projects located on lands owned by the United States are required to provide a description of the U.S. lands affected, to the Commission and Secretary of Interior. FERC Form No. 587 consolidates the information required, and identifies hydropower project boundary maps associated with lands of the United States. The Commission verifies the accuracy of the information supplied and coordinates with the Bureau Land of Management State Offices (BLM), so the U.S. lands can be reserved as hydropower sites and withdrawn from other uses.

When the filer submits the FERC-587, the filer is also required to submit exhibit drawings (e.g., on aperture cards and/or electronic files). The FERC-587 serves as a “table of contents” for the Federal lands that are shown in the drawings. The reporting requirements and burdens related to the preparation and submittal of the actual drawings are included, as appropriate, in: FERC-512 (Application for Preliminary Permits; OMB Control No.: 1902-0073), FERC-500 (Application for License/Relicense for Water Projects with Capacity Greater than 5 MW; OMB Control No. 1902-0058), and FERC-505 (Application for License/Relicense for Water Projects with Capacity 5 MW or Less; OMB Control No. 1902-0115).)

Action: The Commission is requesting a three-year extension of the current expiration date, with no change to the existing collection of data.

Burden Statement: Public reporting burden for this collection is estimated as:

FERC data collection | Number of respondents annually | Number of responses per respondent | Average burden hours per response | Total annual burden hours
| (1) | (2) | (3) | (1)×(2)×(3)
FERC-587 | 250 | 1 | 1 | 250

The total estimated annual cost is $12,500 (250 hours at $50/hour). The estimated annual cost per respondent is $50. [These figures are based on the estimated median salary (adjusted for inflation) for a civil engineering technician, from the Bureau of Labor Statistics, Occupational Employment Statistics.]

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Kimberly D. Bose,
Secretary.

[FR Doc. E9-8046 Filed 4-8-09; 8:45 am]

BILLING CODE 6717-01-P